DEPARTMENT OF COMMERCE

Foreign-Trade Zones Board

[Docket A(32c)-09-2007]

Foreign-Trade Zone 39-Dallas/Ft. Worth, TX, Subzone 39I, Turbomeca USA, Grand Prairie, TX

A request has been submitted to the Foreign-Trade Zones Board (the Board) by the Dallas/Ft. Worth International Airport Board, grantee of FTZ 39, requesting a determination pursuant to Sec. 400.32(c) of the Board's regulations on whether certain activity is within the scope of authority approved under Board Order 1363 establishing Subzone 39I at the Turbomeca USA (Turbomeca) facility in Grand Prairie, Texas.

From 2003 until 2006, the Turbomeca facility was the subject of a focused assessment by CBP. As a result of the assessment, certain foreign components used in the manufacturing process have been reclassified. The activity conducted at the facility, the manufacturing and repair of helicopter engines (duty-free), and the actual foreign components used in the manufacturing process, have not changed. However, the company is now using the following additional classifications of components: tubes, pipes and hoses of plastic or rubber; flanges, threaded articles of metal; helical spring lock washers; cotters and cotter pins; helical springs; non-threaded copper washers; articles of copper, iron or steel with heads of copper; copper screws, nuts, bolts and washers; stoppers, caps and lids of base metals; electric motors; parts of electric sound or visual signaling apparatus; grounding of electrical circuits; relays; contactors; panel boards and distribution boards; circuit cards; other electric conductors; magnifying/sight glass; articles of aluminum; starter motors; electrical apparatus for switching or protecting electrical circuits; and, other programmable controllers (duty rate ranges from duty-free to 5.8%%). All bearings will continue to be admitted to the subzone in privileged foreign status. The reclassification has resulted in an increase to the company's zone savings of approximately $150,000 per year.

Public comment on the request is invited from interested parties. Submissions (original and 3 copies) shall be addressed to the Board's Executive Secretary at the address below. The closing period for their receipt is August 8, 2007. Rebuttal comments in response to material submitted during the foregoing period may be submitted during the subsequent 15-day period to August 23, 2007.

A copy of the request and the accompanying exhibits will be available for public inspection at the following location: Office of the Executive Secretary, Foreign-Trade Zones Board, Room 2111, U.S. Department of Commerce, 14th and Pennsylvania Avenue, NW, Washington, DC 20230.

Dated: June 29, 2007.
Andrew McGilvray,
Executive Secretary.

[FR Doc. E7-13235 Filed 7-6-07; 8:45 am]

BILLING CODE 3510-DS-S